DEPARTMENT OF THE INTERIOR

Bureau of Land Management

[LLES956000-L14200000-BK0000]

Eastern States: Filing of Plat of Survey, Florida

AGENCY: Bureau of Land Management, Interior.

ACTION: Notice.

SUMMARY: The Bureau of Land Management (BLM) will file the plat of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Dominica Van Koten. Persons who use a telecommunications device for the deaf (TDD) may call the Federal Information Relay Service (FIRS) at 1-800-877-8339 during normal business hours. The FIRS is available 24 hours a day, 7 days a week, to leave a message or question. You will receive a reply during normal business hours.

SUPPLEMENTARY INFORMATION: The survey was requested by the U.S. Coast Guard.

The lands surveyed are:

Tallahassee Meridian, Florida

T. 40 S., R. 43 E.

The plat of survey represents the metes-and-bounds survey of a division line in former lot 18 being the boundary between lots 21 and 22 of Section 31 of Township 40 South, Range 43 East Martin County, in the State of Florida, and was accepted February 6, 2014.

We will place a copy of the plat we described in the open files. It will be available to the public as a matter of information.

If BLM receives a protest against the survey, as shown on the plat, prior to the date of the official filing, we will stay the filing pending our consideration of the protest.

We will not officially file the plat until the day after we have accepted or dismissed all protests and they have become final, including decisions on appeals.

Dated: March 13, 2014.
Dominica Van Koten,
Chief Cadastral Surveyor.

[FR Doc. 2014-06021 Filed 3-18-14; 8:45 am]

BILLING CODE 4310-GJ-P